DEPARTMENT OF ENERGY

Federal Energy Regulatory Commission

[Project No. 14153-000]

Ballville Hydroelectric Group, LLC; Notice of Preliminary Permit Application Accepted for Filing and Soliciting Comments, Motions To Intervene, and Competing Applications.

On April 22, 2011, Ballville Hydroelectric Group, LLC filed an application, pursuant to section 4(f) of the Federal Power Act, proposing to study the feasibility of the Ballville Dam Hydroelectric Project No. 14153, to be located at the existing Ballville Dam on the Sandusky River, in the City of Freemont, in Sandusky County, Ohio. The Ballville Dam is owned by the City of Freemont.

The proposed project would consist of: (1) The existing concrete gravity dam which is 34 feet in height with an overall length of 423 feet; (2) a new concrete powerhouse, 40 feet wide by 50 feet long by 30 feet deep; (3) the existing 50-foot-long by 20-foot-wide by 30-foot-deep intake structure; (4) two new 500-kilowatt Kaplan turbine-generator units with a combined capacity of 1.0 megawatt; (5) a new 1,200-foot-long, 12.6-kilovolt transmission line; and (6) appurtenant facilities. The project would have an estimated annual generation of 5,256 megawatt-hours.

Applicant Contact: Mark Chudzinski, 2502 Old Plank Road, Fremont, OH 43420, (419) 680-5858.

FERC Contact: Tyrone A. Williams, (202) 502-6331.

Deadline for filing comments, motions to intervene, and competing applications (without notices of intent), or notices of intent to file competing applications: 60 days from the issuance date of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport.gov; call toll-free at (866) 208-3676; or, for TTY, contact (202) 502-8659. Although the Commission strongly recommends electronic filing, documents may also be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project, including a copy of the application can be viewed or printed on the “eLibrary” link of Commission's Web site at http://www.ferc.gov/docs-filing/elibrary.asp. Enter the docket number (P-14153) in the docket number field to access the document. For assistance, contact FERC Online Support.

Dated: June 23, 2011.
Kimberly D. Bose,
Secretary.

[FR Doc. 2011-16474 Filed 6-29-11; 8:45 am]

BILLING CODE 6717-01-P